DEPARTMENT OF TRANSPORTATION

Federal Railroad Administration

[Docket Number FRA-2018-0094]

Notice of Application for Approval of Discontinuance or Modification of a Railroad Signal System

Under part 235 of Title 49 of the Code of Federal Regulations (CFR) and 49 U.S.C. 20502(a), this document provides the public notice that on October 31, 2018, Canadian National Railway Company (CN) petitioned the Federal Railroad Administration (FRA) seeking approval to discontinue or modify a signal system. FRA assigned the petition Docket Number FRA-2018-0094.

Applicant: Canadian National Railway Company, Mr. Tom Hilliard, Assistant Chief S&C—Southern Region, 17641 S Ashland Avenue, Homewood, IL 60430.

The U.S.-based operating railroad subsidiary of CN, Illinois Central Railroad Company requests approval to permanently remove the Automatic Block Signal (ABS) system between Mile Post (MP) 725.9 on the Canton Subdivision and MP 728.6 on the McComb Subdivision, located near Jackson, Mississippi.

CN states the reason for the proposed change is that the track connection with Yazoo and McComb Subdivisions has been retired so the Canton Subdivision does not connect with Yazoo Subdivision or McComb Subdivision at this location. This makes the ABS system unnecessary for a stub track. Operation over this territory will be conducted using Yard Limit United States Operating Rule requirements.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by December 31, 2018 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
Robert C. Lauby,
Associate Administrator for Railroad Safety Chief Safety Officer.

[FR Doc. 2018-24826 Filed 11-13-18; 8:45 am]

BILLING CODE 4910-06-P